DEPARTMENT OF TRANSPORTATION

Federal Motor Carrier Safety Administration

[Docket No. FMCSA-2012-0216]

Qualification of Drivers; Exemption Applications; Vision

AGENCY: Federal Motor Carrier Safety Administration (FMCSA), DOT.

ACTION: Notice of applications for exemptions; request for comments.

SUMMARY: FMCSA announces receipt of applications from 7 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before October 12, 2012.

ADDRESSES: You may submit comments bearing the Federal Docket Management System (FDMS) Docket No. FMCSA-2012-0216 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 7 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Donald L. Blakeley II

Mr. Blakeley, age 60, has had loss of vision in his left eye due to a traumatic incidence that occured in 1990. The best corrected visual acuity in his right eye is 20/15, and in his left eye, 20/200. Following an examination in 2012, his ophthalmologist noted, “I certify in my opinion, which includes your twenty years experience with this condition, that you have sufficient vision to perform the driving tasks required to operate a commercial vehicle.” Mr. Blakeley reported that he has driven straight trucks for 44 years, accumulating 528,000 miles, and tractor-trailer combinations for 35 years, accumulating 420,000 miles. He holds a Class A Commercial Driver's License (CDL) from Nevada. His driving record for the last 3 years shows no crashes and no convictions for moving violations in a CMV.

Paul M. Griffey

Mr. Griffey, 59, has loss of vision in his left eye due to retinal necrosis sustained in 1996. The best corrected visual acuity in his right eye is 20/25, and in his left eye, light perception only. Following an examination in 2012, his ophthalmologist noted, “He has been operating a commercial vehicle with this level of vision for that period of time and it is my feeling that he has the ability to continue to operate a commercial vehicle.” Mr. Griffey reported that he has driven straight trucks for 2 years, accumulating 300,000 miles, and tractor-trailer combinations for 38 years, accumulating 6.1 million miles. He holds a Class A CDL from Missouri. His driving record for the last 3 years shows no crashes and no convictions for moving violations in a CMV.

Roger S. Hardin

Mr. Hardin, 41, has had amblyopia in his right eye since childhood. The best corrected visual acuity in his right eye is 20/60, and in his left eye, 20/20. Following an examination in 2012, his optometrist noted, “It is my professional opinion that Mr. Hardin has sufficient vision to perform the driving tasks required to operate a commercial vehicle.” Mr. Hardin reported that he has driven tractor-trailer combinations for 15 years, accumulating 1.9 million miles. He holds a Class D operator's license from Alabama. His driving record for the last 3 years shows no crashes and no convictions for moving violations in a CMV.

Stephen J. Hodge

Mr. Hodge, 53, has had corneal scarring in his right eye since childhood. The best corrected visual acuity in his right eye is 20/200, and in his left eye, 20/20. Following an examination in 2012, his optometrist noted, “Therefore, Mr. Hodge does have sufficient field of vision to perform the driving tasks required to operate a vehicle, personal or commercial.” Mr. Hodge reported that he has driven straight trucks for 20 years, accumulating 600,000 miles. He holds a Class C operator's license from Maine. His driving record for the last 3 years shows no crashes and no convictions for moving violations in a CMV.

Matthew J. Mantooth

Mr. Mantooth, 44, has had fibrotic scarring due to toxoplasmosis in his right eye since childhood. The visual acuity in his right eye is no light perception, and in his left eye, 20/20. Following an examination in 2012, his optometrist noted, “Patient's vision is medically sufficient to perform the driving tasks required to operate a commercial vehicle.” Mr. Mantooth reported that he has driven straight trucks for 24 years, accumulating 624,000 miles, and tractor-trailer combinations for 6 months, accumulating 10,500 miles. He holds a Class D CDL from Kentucky. His driving record for the last 3 years shows no crashes and no convictions for moving violations in a CMV.

James J. Monticello

Mr. Monticello, 48, has a traumatic ruptured globe in his right eye due to an accident sustained in 2008. The visual acuity in his right eye is light perception only, and in his left eye, 20/20. Following an examination in 2012, his ophthalmologist noted, “Based on the requirements listed here, with 20/20 vision and a full field of at least 160° in his left eye combined with his past experience, I feel he has sufficient vision to operate a commercial vehicle.” Mr. Monticello reported that he has driven straight trucks for 5½ years, accumulating 247,500 miles, and tractor-trailer combinations for 3½ years, accumulating 332,500 miles. He holds a Class A CDL from Indiana. His driving record for the last 3 years shows no crashes and no convictions for moving violations in a CMV.

Michael J. Wells

Mr. Wells, 56, has had refractive amblyopia in his right eye since childhood. The best corrected visual acuity in his right eye is hand motion vision, and in his left eye, 20/20. Following an examination in 2012, his optometrist noted, “It is my professional opinion that Michael's vision is satisfactory for him to hold a commercial driver's license and drive safely.” Mr. Wells reported that he has driven straight trucks for 40 years, accumulating 880,000 miles, and tractor-trailer combinations for 20 years, accumulating 240,000 miles. He holds a Class A CDL from North Carolina. His driving record for the last 3 years shows no crashes and no convictions for moving violations in a CMV.

Request for Comments

In accordance with 49 U.S.C. 31136(e) and 31315, FMCSA requests public comment from all interested persons on the exemption petitions described in this notice. The Agency will consider all comments received before the close of business October 12, 2012. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: September 4, 2012.
Larry W. Minor,
Associate Administrator for Policy.

[FR Doc. 2012-22461 Filed 9-11-12; 8:45 am]

BILLING CODE 4910-EX-P